DEPARTMENT OF DEFENSE

Department of the Navy

Notice of Proposed Information Collection; Headquarters, U.S. Marine Corps

AGENCY: Department of the Navy, DOD.

ACTION: Notice.

SUMMARY: The U.S. Marine Corps announces a proposed extension of an approved information collection and seeks public comment on the provisions thereof. Comments are invited on: (a) Whether the proposed collection of information is necessary for the proper performance of the functions of the agency, including whether the information shall have practical utility; (b) the accuracy of the agency's estimated of the burden of the proposed information collection; (c) ways to enhance the quality, utility, and clarity of the information to be collected; and (d) ways to minimize the burden of the information collection on respondents, including through the use of automated collection techniques or other forms of information technology.

DATES: Consideration will be given to all comments received by January 7, 2003

ADDRESSES: Send written comments and recommendations on the proposed information collection to Marine Corps Recruiting Command, (Code MROR), 3280 Russell Road, Quantico, VA 22134-5103.

FOR FURTHER INFORMATION CONTACT: To request additional information or to obtain a copy of the proposal and associated collection instruments, contact Gunnery Sergeant Ricardo Hudson at (703) 784-9449.

SUPPLEMENTARY INFORMATION: Form Title and OMB Number: Personal Information Questionnaire; OMB Control No. 0703-0012.

Needs and Uses: The Personal Information Questionnaire is used to provide Headquarters, U.S. Marine Corps with a standardized method in rating officer program applicants in the areas of character, leadership, ability, and suitability for a service as a commissioned officer.

Affected Public: Individuals or households.

Annual Burden Hours: 8,350.

Number of Respondents: 16,700.

Responses per Respondent: 1.

Average Burden per Response: 30 minutes.

Frequency: On occasion.

(Authority: 44 U.S.C. Sec. 3506(c)(2)(A)).

Dated: October 30, 2002.
R.E. Vincent, II,
Lieutenant Commander, Judge Advocate General's Corps, U.S. Navy, Federal Register Liaison Officer.

[FR Doc. 02-28490 Filed 11-7-02; 8:45 am]

BILLING CODE 3810-FF-M